DEPARTMENT OF AGRICULTURE

Performance Review Board Appointments

AGENCY: Office of Human Resources Management, Departmental Management, USDA.

ACTION: Notice of appointment.

SUMMARY: This notice announces the appointment of the members of the Senior Executive Service (SES) and Senior Level (SL) and Scientific or Professional (ST) Performance Review Boards (PRB) for the Department of Agriculture, as required by 5 U.S.C. 4314(c)(4). Agriculture has a total of six PRBs: the Secretary's PRB; Departmental Management and Staff Offices PRB; Natural Resources and Environment PRB; Farm and Foreign Agricultural Services, Rural Development, Food, Nutrition and Consumer Services PRB; Marketing and Regulatory Programs, Food Safety PRB; and Research, Education, and Economics PRB. The PRBs comprise of career and noncareer executives and Chairpersons to make recommendations on the performance of executives to the Secretary, including performance ratings and bonuses for SES, SL, and ST employees. The boards meet annually to review and evaluate performance appraisal documents and provide written recommendations to the Secretary for final approval of performance ratings and base salary increases.

DATES: Effective October 24, 2014.

FOR FURTHER INFORMATION CONTACT: William Milton, Director, Office of Human Resources Management, telephone: (202) 690-2139, email: william.milton@dm.usda.gov or Patricia Moore, Director, Executive Resources Management Division, telephone: (202) 720-8629, email: patty.moore@dm.usda.gov.

SUPPLEMENTARY INFORMATION: In accordance with 5 U.S.C. 4314(c)(4), the following executives may be appointed by mission areas to the USDA PRBs:

Office of the Secretary

Baenig, Brian; Christenson, Daniel; Wheelock, Leslie

Departmental Management (OAO, OBPA, OCIO, OCFO, OHSE, OHRM, OJO, OO and OPPM) and Staff Offices (ASCR, OCE, OC, OCR, OGC and NA)

Batta, Todd; Parham, Gregory L.; Baumes, Harry S.; Bender, Stuart; Bice, Donald; Black, David O.; Brewer, John; Bumbary-Langston, Inga P.; Christian, Lisa A.; Clanton, Michael W.; Coffee, Richard; Cook, Cheryl L.; Foster, Andrea L.; Glauber, Joseph; Grahn, David P.; Heard, Robin; Hohenstein, William G.; Holladay, Jon; Hunter, Joyce; Jackson, Yvonne T.; Jeanquart, Roberta; Jenson, William; Johansson, Robert C.; Jones, Carmen: Jones, Diem Linh L.; Kelly, Janet Karlease; Leland, Arlean; Leonard, Joe; Linden, Ralph A.; Lippold, David; Lowe, Christopher S.; Lowe, Stephen O.; McClam, Charles; Milton, William; Moulton, Robert Jeffrey; Paul, Matt; Parker, Carolyn C.; Pfaeffle, Frederick; Repass, Todd; Ruiz, Carl Martin; Shorter, Malcom; Shearer, David P.; Turner, Calvin; Vos, John P.; Ware, Joseph A.; Wallace, Charles; White, John S.; Wilburn, Curtis; Wiley, Curtis; Wilusz, Lisa; Young, Benjamin; Young, Mike; Zehren, Christopher J.

Marketing and Regulatory Programs (MRP)

Avalos, Ed; Cordova, Elvis; Woodward II, Gary

Agricultural Marketing Service

Alonzo, Anne; Bailey, Douglas; Barnes, Rex; Coale, Dana; Earnest, Darryl; Guo, Ruihong; McEvoy, Miles; Morris, Craig; Neal, Arthur; Parrott, Charles W.

Animal and Plant Health Inspection Service

Bandla, Murali; Bech, Rebecca; Berger, Philip; Blakely, Cheryle L; Brown, Charles; Clark, Larry; Clay, William; Clifford, John; Davidson, Mark L.; Diaz-Soltero, Hilda; Dick, Jere; El Lissy, Osama A.; Firko, Michael J.; Gipson, Chester A.; Granger, Larry; Gregoire, Michael; Grode, Jeffrey; Hill, Jr., Richard; Hoffman, Neil E.; Holland, Marilyn; Huttenlocker, Robert; Jones, Bethany; Juarez, Bernadette; Kaplan, David; Lautner, Elizabeth; Levings, Randall L.; McCammon, Sally L.; McCluskey, Brian; Mendoza, Jr., Martin; Morgan, Andrea; Murphy, Virginia; Myers, Thomas; Royer, Matthew; Shea, A. Kevin; Shere, Jack; Simmons, Beverly; Smith, Cynthia; Thiermann, Alejandro B.; Thompson, Barbara L.; Watson, Michael T.; Washington, Gary S.; Wiggins, Marsha A.; Zakarka, Christine

Grain Inspection, Packers and Stockyards Administration

Alonzo, Mary C.; Jones, Randall; Keith, Susan; Mitchell, Lawrence W.

Food Safety

Almanza, Alfred; Banegas, Ronald; Basu, Parthapratim; Blake, Carol L.; Chen, Vivian; Dearfield, Kerry L.; Derfler, Philip; Edelstein, Rachel; Engeljohn, Daniel; Esteban, Jose Emilio; Gilmore, Keith Allyn; Hill, Joseph; Jones, Ronald; Kause, Janell R.; Lowe, Mary F.; Mian, Haroon S.; Myers, Jacqueline; Nintemann, Terri; Ronholm, Brian; Sidrak, Hany Z.; Smith, William; Stevens, Janet; Tawadrous, Armia; Tohamy, Soumaya M; Watts, Michael

Farm and Foreign Agricultural Services

Gutter, Karis T; Scuse, Michael

Foreign Agricultural Service

Foster, Christian; Karsting, Philip; Palmieri, Suzanne; Nuzum, Janet; Quick, Bryce

Farm Service Agency

Beyerhelm, Christopher; Diephouse, Gregory; Garcia, Juan M.; Dolcini, Val; Harwood, Joy; Rucker, Mark A.; Schmidt, John M.; Stephenson, Robert; Thompson, Candace; Trimm, Alan; Ware, Heidi Grace

Risk Management Agency

Alston, Michael; Nelson, Leiann H.; Willis, Brandon C.; Witt, Timothy; Worth, Thomas W.

Food, Nutrition and Consumer Services (FNCS)

Bailey Jr., Robin David; Barnes, Darlene; Burr, David Glenn; Concannon, Kevin; Dean, Telora; Dombroski, Patricia; English, Timothy D.; Jackson, Yvette S.; Kane, Deborah J.; Ludwig, William; Mande, Jerold; Rowe, Audrey; Shahin, Jessica; Thornton, Jane; Tribiano, Jeffrey

Rural Development (RD)

Ferguson, Katherine; O'Brien, Doug; Kunesh, Patrice

Rural Business Service

Parker, Chadwick O.

Rural Housing Service

Allen, Joyce; Davis, Richard A.; Glendenning, Roger; Hannah, Thomas; Hooper, Bryan; Primrose, Edna; Ross, Robert H.; Salguero, Francisco; Atkins, Anita

Rural Utilities Service

Adams, Keith; Ackerman, Kenneth; Bojes, Gary; Ponti-Lazaruk, Jacqueline

Natural Resources and Environment

Blazer, Arthur; Bonnie, Robert Farrell; Harrell, Meryl; Mills, Ann C.

Forest Service

Atkinson, Kathleen; Blount, Emilee; Brown, Thomas C.; Bryant, Arthur; Bytnerowicz, Andrzej; Christiansen, Victoria; Cleaves, David A.; Cohen, Warren Bruce; Coleman, Angela V.; Cullen, Daniel; Dixon, Antoine; Doudrick, Robert; Ferguson, Tony; Ferrell, David L.; Foster, George S.; Friend, Alexander L.; Grant, Gordon E.; Guldin, Richard; Gutman, Theodore H.; Hammel, Kenneth E.; Harbour, Thomas C.; Hubbard, James E.; Iverson, Louis R.; Jiron, Daniel J.; Joyner, Calvin N.; Krueger, Faye L.; Lago, Jacquelyn L.; Lemly, Dennis; Lepore, Mary Beth; Lugo, Ariel E.; Mangold, Robert D.; McGuire, Jennifer; Meade, Joe L.; Meinzer, Frederick C.; Mezainis, Valdis E.; Moore, Randy; Myers, Jr., Charles L.; Nash, Douglas R.; Pena, James M.; Pendleton, Beth G.; Peterson, David L.; Phipps, John E.; Rains, Michael T.; Raphael, Martin G.; Rasure, Nora B.; Reaves, Jimmy L.; Rodriguez-Franco, Carlos; Ross, Robert J.; Sears, George A.; Shortle, Walter C.; Smith, Gregory C.; Spies, Thomas A.; Stanturf, John A.; Strong, Thelma J.; Thompson III, Frank R.; Tidwell, Thomas; Tooke, Tony; Vose, James M.; Wagner, Mary A.; Wear, David; Weldon, Leslie; West, Cynthia

Natural Resources Conservation Service

Barry, Gayle N.; Boozer, Astor F.; Christensen, Thomas; Coleman, Ray-Deleon J.; Erickson, Terrell; Gelburd, Diane; Herbert, Noller; Honeycutt, C. Wayne; Jordan, Leonard; Kramer, Anthony; Kunze, Stephen; Perry, Janet; Reed, Lesia; Salinas, Salvador; Smith, David W.; Suarez Oliva, Carlos; Weller, Jason; Wilkes, Homer L.

Research, Education and Economics

Abebe, Yeshimebet, Bartuska, Ann; Woteki, Catherine

Agricultural Research Service

Ahuja, Lajpat R.; Allen, Lindsay; Arnold, Jeffrey G.; Baldus, Lisa; Brennan, Deborah; Bahar, Mojdeh; Bretting, Peter K.; Chandler, Laurence; Cleveland, Thomas; Erhan, Sevin; Fayer, Ronald; Gay, Cyril G.; Gibson, Paul; Gottwald, Timothy R.; Hackett, Kevin J.; Hammond, Andrew; Hatfield, Jerry L.; Hefferan, Colien; Huber, Steven C.; Hunt, Patrick G.; Jackson, Thomas J.; Jacobs-Young, Chavonda; Jenkins, Johnie Norton; Kappes, Steven; Kochian, Leon V.; Kunickis, Sheryl; Lillehoj, Hyun S.; Lindsay, James A.; Liu, Simon; Loper, Joyce E.; Magill, Robert; Matteri, Robert; Mattoo, Autar K.; McGuire, Michael; McMurtry, John; Nackman, Ronald J; Onwulata, Charles: Ort, Donald R.; Pollak, Emil; Rango, Albert; Riley, Ronald T.; Sebesta, Paul; Shafer, Steven; Starke-Reed, Pamela; Simmons, Mary W.; Smith, Timothy P.; Spence, Joseph; Suarez, David Lee; Swietlik, Dariusz; Upchurch, Dan; Whalen, Maureen; Willett, Julious L.; Zhang, Howard

Economic Research Service

Bianchi, Ronald; Bohman, Mary; Munisamy, Gopinath; Pompelli, Gregory K.; Variyam, Jayachandran N.; Weinberg, Marca J.

National Agricultural Statistics Service

Barnes, Kevin L.; Hamer, Jr., Hubert; Harris, James Mark; Parsons, Joseph L.; Picanso, Robin; Reilly, Joseph; Valivullah, Michael

National Institute of Food and Agriculture

Broussard, Meryl; Desbois, Michel; Holland, Robert E.; Montgomery, Cynthia R.; Qureshi, Muquarrab A.; Ramaswamy, Sonny

Dated: November 5, 2014.
Thomas J. Vilsack,
Secretary.

[FR Doc. 2014-26613 Filed 11-7-14; 8:45 am]

BILLING CODE P